DEPARTMENT OF AGRICULTURE

Animal and Plant Health Inspection Service

9 CFR Parts 55 and 81

[Docket No. 00-108-4]

Chronic Wasting Disease Herd Certification Program and Interstate Movement of Farmed or Captive Deer, Elk, and Moose; Delay of Effective Date

AGENCY: Animal and Plant Health Inspection Service, USDA.

ACTION: Final rule; delay of effective date.

SUMMARY: We recently amended the regulations to establish a herd certification program and interstate movement restrictions for cervids to control the spread of chronic wasting disease. That final rule had an effective date of October 19, 2006. We are delaying that effective date until further notice, to give the agency time to consider several petitions we recently received that asked for the rule not to take effect as scheduled. This delay is needed to allow the agency to consider the issues raised in the petitions and decide what action to take in response to them.

DATES: The effective date for the final rule amending 9 CFR part 55 and adding 9 CFR part 81, published at 71 FR 41682, July 21, 2006, is delayed until further notice. APHIS will publish a document in the Federal Register announcing any new effective date or other decision.

FOR FURTHER INFORMATION CONTACT: Dr. Dean E. Goeldner, Senior Staff Veterinarian, Ruminant Health Programs, VS, APHIS, 4700 River Road Unit 43, Riverdale, MD 20737-1231; (301) 734-4916.

SUPPLEMENTARY INFORMATION:

Background

The Animal and Plant Health Inspection Service's (APHIS's) regulations in 9 CFR subchapter B govern cooperative programs to control and eradicate communicable diseases of livestock. In accordance with the Animal Health Protection Act (7 U.S.C. 8301 et seq.), the Secretary of Agriculture has the authority to issue orders and promulgate regulations to prevent the introduction into the United States and the dissemination within the United States of any pest or disease of livestock, and to pay claims growing out of the destruction of animals.

On July 21, 2006, we published a final rule in the Federal Register (71 FR 41682-41707) amending 9 CFR subchapter B by establishing regulations in part 55 for a Chronic Wasting Disease Herd Certification Program to help eliminate chronic wasting disease from the farmed or captive cervid herds in the United States (the CWD rule). Under that rule, owners of deer, elk, and moose herds who choose to participate would have to follow program requirements for animal identification, testing, herd management, and movement of animals into and from herds. We also amended 9 CFR subchapter B by establishing a new part 81 containing interstate movement requirements to prevent the spread of CWD.

Delay in Effective Date

We recently received several petitions requesting a delay in the effective date of the CWD rule and reconsideration of several requirements of the rule. We are currently evaluating the merits of these petitions, and will publish a notice in the Federal Register in the near future making the contents of the petitions available to the public for comment. We are delaying the effective date of the CWD rule while this process is underway.

Authority: 7 U.S.C. 8301-8317; 7 CFR 2.22, 2.80, and 371.4.

Done in Washington, DC, this 30th day of August 2006.
W. Ron DeHaven,
Administrator, Animal and Plant Health Inspection Service.

[FR Doc. E6-14861 Filed 9-7-06; 8:45 am]

BILLING CODE 3410-34-P